ENVIRONMENTAL PROTECTION AGENCY

40 CFR Part 62

[WV-042-6011b; FRL-6983-5]

Approval and Promulgation of State Plans for Designated Facilities and Pollutants; State of West Virginia; Control of Emissions From Existing Municipal Solid Waste Landfills

AGENCY: Environmental Protection Agency (EPA).

ACTION: Proposed rule.

SUMMARY: EPA proposes to approve the municipal solid waste landfill 111(d) plan submitted by the West Virginia Division of Environmental Protection (DEP), on May 29, 1998, and as amended on May 15, and December 20, 2000, for the purpose of controlling landfill gas emissions from existing municipal solid waste (MSW) landfills. Also, EPA proposes to delegate its authority to the DEP for the enforcement of the Federal landfill 111(d) plan's compliance schedules. In the final rules section of the Federal Register, EPA is approving the plan. A detailed rationale for the approval is set forth in the direct final rule. If no adverse comments are received in response to this rule, no further activity is contemplated in relation to this rule. If EPA receives relevant adverse comments, the direct final rule will be withdrawn and all public comments received will be addressed in a subsequent final rule based on this proposed rule. EPA will not institute a second comment period on this document. Any parties interested in commenting on this document should do so at this time.

DATES: Comments must be received in writing by June 22, 2001.

ADDRESSES: Comments may be mailed to David L. Arnold, Chief, Air Quality Planning and Information Services Branch, Mailcode 3AP21, Environmental Protection Agency, Region III, 1650 Arch Street, Philadelphia, Pennsylvania 19103.

FOR FURTHER INFORMATION CONTACT: James B. Topsale at (215) 814-2190, or by e-mail at topsale.jim@epa.gov. While additional information may be obtained via e-mail, comments must be submitted in writing to the address provided above.

SUPPLEMENTARY INFORMATION: See the information provided in the direct final rule of the same title which is located in the rules section of the Federal Register.

Authority: 42 U.S.C. 7401-7642.

Dated: May 1, 2001.
William C. Early,
Acting Regional Administrator, Region III.

[FR Doc. 01-12889 Filed 5-22-01; 8:45 am]

BILLING CODE 6560-50-P